Executive Order 13207 of April 5, 2001

Further Amendment to Executive Order 10000, Regulations Governing Additional Compensation and Credit Granted Certain Employees of the Federal Government Serving Outside the United States

By the authority vested in me as President by the Constitution and the laws of the United States of America, it is hereby ordered that Executive Order 10000, as amended, is further amended as follows:

Section 1. Section 201 is amended:

(a) by striking “(a)”; and

(b) by striking “, and (b) the words 'section 207 of the Act' have the meaning set forth in section 101 hereof.”

Sec. 2. Section 205 is amended by striking “(a)” and by striking subsection (b).

Sec. 3. Section 210 is amended:

(a) by striking “, but at least annually,” and

(b) by striking “if program or methodology revisions would substantially reduce an established differential or allowance rate, then”.

B

THE WHITE HOUSE,

April 5, 2001.

[FR Doc. 01-8836

Filed 4-6-01; 8:45 am]

Billing code 3195-01-P